NATIONAL AERONAUTICS AND SPACE ADMINISTRATION

[Notice (13-057)]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: May 20, 2013.

FOR FURTHER INFORMATION CONTACT: Robin W. Edwards, Patent Counsel, Langley Research Center, Mail Stop 30, Hampton, VA 23681-2199; telephone (757) 864-3230; fax (757) 864-9190.

NASA Case No.: LAR-18246-1: Tethered Vehicle Control and Tracking System;

NASA Case No.: LAR-17848-1: Method of Mapping Anomalies in Homogenous Material;

NASA Case No.: LAR-18090-1: Fluidic Oscillator Having Decoupled Frequency and Amplitude Control;

NASA Case No.: LAR-18301-1: Flap Edge Noise Reduction Fins;

NASA Case No.: LAR-17636-1: Space Vehicle Heat Shield Having Edgewise Strips of Ablative Material;

NASA Case No.: LAR-18166-1: Reactive Orthotropic Lattice Diffuser for Noise Reduction;

NASA Case No.: LAR-17317-2: Extreme Low Frequency Acoustic Measurement System;

NASA Case No.: LAR-18204-1: Quasi-Static Electric Field Generator;

NASA Case No.: LAR-18131-1: Puncture-Healing Thermoplastic Resin Carbon-Fiber Reinforced Composites;

NASA Case No.: LAR-18089-1: Fluidic Oscillator Array for Synchronized Oscillating Jet Generation;

NASA Case No.: LAR-18217-1: A Graphical Acoustic Liner Design and Analysis Tool;

NASA Case No.: LAR-18267-1: Method and System for Physiologically Modulating Action Role-playing Open World Video Games and Simulations Which Use Gesture and Body Image Sensing Control Input Devices;

NASA Case No.: LAR-18211-1: A Statistically Based Approach to Broadband Liner Design and Assessment;

NASA Case No.: LAR-18183-1: Height Control and Deposition Measurement for the Electron Beam Free Form Fabrication (EBF3) Process;

NASA Case No.: LAR-17887-1: Ultrasonic Device for Assessing the Quality of a Wire Crimp;

NASA Case No.: LAR-17947-1: Linear Fresnel Spectrometer Chip with Gradient Line Grating;

NASA Case No.: LAR-18144-1: Method and System for Physiologically Modulating Videogames and Simulations Which Use Gesture and Body Image Sensing Control Input Devices;

NASA Case No.: LAR-18179-1: Processing Device for High-Speed Execution of an xRISC Computer Program.

Sumara M. Thompson-King,
Deputy General Counsel.

[FR Doc. 2013-11945 Filed 5-17-13; 8:45 am]

BILLING CODE 7510-13-P